DEPARTMENT OF THE TREASURY

Submission for OMB Review; Comment Request

December 21, 2012.

The Department of the Treasury is planning to submit the following information collection request to the Office of Management and Budget (OMB) for review and clearance in accordance with the Paperwork Reduction Act of 1995, Public Law 104-13.

DATES: Comments should be received on or before March 1, 2013 to be assured of consideration.

ADDRESSES: Send comments regarding the burden estimate, or any other aspect of the information collection, including suggestion for reducing the burden, to James Gatz, Senior Program and Policy Advisor, Office of Consumer Policy, U.S. Department of the Treasury, 1500 Pennsylvania Ave., NW., Washington, DC 20220. (202) 622-3946.

FOR FURTHER INFORMATION CONTACT: Copies of the submission(s) may be obtained by calling (202) 927-5331, email at PRA@treasury.gov, or the entire information collection request maybe found at www.reginfo.gov.

Office of Consumer Policy

OMB Number: 1505-xxxx.

Type of Review: New collection.

Title: Assessing the use and demand for technology-based financial capability tools and products and related services

Abstract: The Department of the Treasury is developing knowledge about consumers' demand, use and understanding of technology-based tools and products that provide information for financial decision-making, including tools available via smartphones and other mobile devices. Treasury will use the collected information to promote the Treasury's understanding of this category of tools and products and related services.

Affected Public: Individuals or households selected to participate in the information collection.

Estimated Total Annual Burden Hours: 1250.

Robert Dahl,
Treasury PRA Clearance Officer.

[FR Doc. 2012-31237 Filed 12-28-12; 8:45 am]

BILLING CODE 4810-25-P